DEPARTMENT OF COMMERCE

Bureau of the Census

[Docket Number 151008932-5932-01]

Streamlining Summary Level 070 Tables in the 5-Year American Community Survey

AGENCY: Bureau of the Census, Commerce.

ACTION: Notice of Final Program.

SUMMARY: The Census Bureau hereby announces that it will streamline the production and release of American Community Survey (ACS) Summary Level 070 tables (state/county/county subdivision/place remainder (or part)) to the 15 tables necessary for the delineation of metropolitan, micropolitan, and related statistical areas as defined by the Office of Management and Budget (OMB). The ACS collects detailed demographic, social, economic, and housing data from about 3.5 million addresses in the United States and 36,000 in Puerto Rico each year. Annual data products are released in the form of 1-Year and 5-Year estimates with 5-Year estimates being produced for over 578,000 geographies by 87 different summary levels. Most summary levels and their corresponding geographies are then produced for approximately 1,000 detailed tables. As a cost-saving measure and to improve the usability of the estimates, the Census Bureau has decided to streamline the production and release of Summary Level 070 tables to the 15 tables necessary for delineation. Based on data user analytics, customer feedback, and responses from an earlier Federal Register Notice (June 5, 2015; 80 FR 32084) soliciting comments on the streamlining of the summary level, we believe that the streamlining of this summary level will not have a significant impact to our data users. Therefore, beginning in December 2015, the Census Bureau will be tabulating and releasing only those 15 tables for Summary Level 070 that are necessary for the delineation of metropolitan, micropolitan, and related statistical areas (particularly for identification of New England City and Town Area principal cities), commuting analysis, and basic demographic and housing analysis.

DATES: This Notice will be effective on December 10, 2015.

FOR FURTHER INFORMATION CONTACT: KaNin Reese, Room 7H176F, U.S. Census Bureau, Social, Economic, and Housing Statistics Division, Washington, DC 20233, by phone at 301-763-3493 or via email at kanin.l.reese@census.gov.

SUPPLEMENTARY INFORMATION: Beginning with the 2010-2014 ACS 5-Year tables, the Census Bureau will streamline the production and release of Summary Level 070 tables (state/county/county subdivision/place remainder (or part)) to the 15 tables necessary for the delineation of metropolitan, micropolitan, and related statistical areas (particularly for identification of New England City and Town Area principal cities) by OMB, for other commuting analysis, and for basic demographic and housing analysis. The Census Bureau conducts the ACS program under 13 U.S.C. Sections 141 and 193. Streamlining the tables in this summary level will save the Census Bureau over $100,000 over a 5-Year period.

The Census Bureau has been reviewing and documenting the utility of releasing Summary Level 070 for all 1,000 tables for several years. In our last release, this summary level was produced for 69,939 unique geographies for about 1,000 tables with approximately 70 percent of all estimates produced as zero since place parts in county subdivisions represent very small areas. Not only is the data quality insufficient for many of the individual geographies, but very few data users are accessing the tables on American FactFinder or the summary files on the Census File Transfer Protocol (FTP) site. Further, based on user feedback, we have increasing concern that data users may be using the summary level incorrectly, mistaking these place parts in county subdivisions for place-level geographies.

Since the ACS was created as the replacement for the Census long-form, the ACS began by producing the same summary levels that were produced in Census 2000. The purpose of Summary Level 070 (state/county/county subdivision/place remainder (or part)) is for the delineation of metropolitan, micropolitan, and related statistical areas under OMB standards. However, not all of the 1,000 detailed tables being produced for this summary level are needed for delineation. The Census Bureau has identified ten commuting tables necessary for the delineation process and for other commuting analysis, and five basic demographic and housing tables necessary for the tabulation of the summary level.

The 15 tables available for Summary Level 070 include:

1. B01001—Sex by Age

2. B01003—Total Population

3. B02001—Race

4. B08007—Sex of Workers by Place of Work—State and County Level

5. B08008—Sex of Workers by Place of Work—Place Level

6. B08009—Sex of Workers by Place of Work—Minor Civil Division Level for 12 Selected States (CT, ME, MA, MI, MN, NH, NJ, NY, PA, RI, VT, WI)

7. B08301—Means of Transportation to Work

8. B08302—Time Leaving Home to Go to Work

9. B08303—Travel Time to Work

10. B08601—Means of Transportation to Work for Workplace Geography

11. B08602—Time Arriving at Work from Home for Workplace Geography

12. B08603—Travel Time to Work for Workplace Geography

13. B08604—Worker Population for Workplace Geography

14. B25001—Housing Units

15. B25003—Tenure

Due to limited resources available to produce the full product package and limited user need, the Census Bureau has concluded that it will only produce the 15 tables above for Summary Level 070. If additional estimates are needed from this summary level, data users are encouraged to use block group or tract-level data, which will continue to be available on American FactFinder, the Census Application Programming Interface (API), and the summary files on the FTP site. Data are available at: http://factfinder.census.gov/faces/nav/jsf/pages/index.xhtml.

Summary of Comments Received and the Response of the Census Bureau

The Census Bureau published a Notice and Request for Comments on streamlining tables for Summary Level 070 in the Federal Register on June 5, 2015 (80 FR 32084). In response to the notice, the Census Bureau received only one comment. The comment was from a data user requesting that all tables currently produced for this summary level continue to be made available. The data user argued that this summary level provided useful estimates for those incorporated villages in the 12 minor civil divisions in New York state that are dependent within towns, but not necessarily contained completely within a single town and can cross town boundaries. For those incorporated villages, estimates would not be available. These estimates could be helpful to local governments that include place parts in county subdivisions. However, individual local governments have not expressed any interest in keeping these estimates available.

In response to the commenter, the Census Bureau explained that due to budgetary constraints to the ACS, we could not continue to produce all tables for a summary level with so many geographies that so few people were using when the majority of the estimates were zero. However, 15 tables will continue to be produced for that summary level, which will provide basic demographic, housing, and commuting analysis as well as those tables necessary for the delineation of metropolitan, micropolitan, and related statistical areas (particularly for identification of New England City and Town Area principal cities) by OMB. Based on the singular user response, the Census Bureau determined that the need for this summary level was not substantial enough to warrant expenditure of the resources needed to produce it. Therefore, the Census Bureau determined that the original 15 tables selected to continue to be produced in Summary Level 070 were sufficient, and no other tables were added.

The Census Bureau believes that these tables are sufficient for data user needs for this summary level. For data users who are accustomed to using Summary Level 070 tables, the Census Bureau suggests using block group or tract-level data, which will continue to be released annually through American FactFinder, Census API, and the summary files on the FTP site. By releasing only a few key demographic, social, and housing tables for this summary level, the Census Bureau believes that we are still meeting the true purpose, and maintaining the integrity, of Summary Level 070 tables while substantially reducing resources needed for the full production of the product.

Dated: October 20, 2015.
John H. Thompson,
Director, Bureau of the Census.

[FR Doc. 2015-27280 Filed 10-26-15; 8:45 am]

BILLING CODE 3510-07-P